DEPARTMENT OF JUSTICE

Notice of Lodging of Consent Decree Under the Clean Water Act and Oil Pollution Act

Notice is hereby given that on October 13, 2005, a proposed Consent Decree (“Decree”) in United States v. Kentucky Utilities Co., Civil Action No. 5:05-cv-418, was lodged with the United States District Court for the Eastern District of Kentucky.

In this action, the United States sought the assessment of penalties under the Clean Water Act, as amended by the Oil Pollution Act of 1990, due to the discharge in 1999 of approximately 38,000 gallons of diesel fuel oil from an underground pipeline owned and operated by Defendants and located at the E.W. Brown Generating Station in Burgin, Kentucky (“Brown Station”). The United States also sought the assessment of penalties for the 2001 discharge of an unknown quantity of oil from a cooling tower at the Brown Station, and for Defendant's failure to timely submit a Brown Station Facilities Response Plan (“FRP”). The Decree provides for Defendants to pay a civil penalty in the amount of $228,569, and to install two additional oil-water separators at the Brown Station. This Supplemental Environmental Project will cost at least $750,000 to install, and an additional $400,000 to maintain over the next ten (10) years.

The Department of Justice will receive for a period of thirty (30) days from the date of this publication comments relating to the Decree. Comments should be addressed to the Assistant Attorney General, Environmental and Natural Resources Division, PO Box 7611, U.S. Department of Justice, Washington, DC 20044-7611, and should refer to United States v. Kentucky Utilities Co., DJ #90-5-1-1-07915.

The Decree may be examined at the Office of the United States Attorney, 110 West Vine Street, Room 400, Lexington, Kentucky 40507, and at U.S. EPA Region 4, Atlanta Federal Center, 61 Forsyth Street, SW., Atlanta, Georgia 30303-3104. During the public comment period, the Decree may also be examined on the following Department of Justice Web site, http://www.usdoj.gov/enrd/open.html. A copy of the Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $39.75 (25 cents per page reproduction cost) payable to the U.S. Treasury. In requesting a copy exclusive of exhibits, please enclose a check in the amount of $10.50 (25 cents per page reproduction cost) payable to the U.S. Treasury.

Ellen M. Mahan,
Assistant Chief, Environmental Enforcement Section, Environment and Natural Resources Division.

[FR Doc. 05-21882 Filed 11-1-05; 8:45 am]

BILLING CODE 4410-15-M